DEPARTMENT OF COMMERCE

[I.D. 071800LE]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Licensing of Private Land Remote-Sensing Space Systems.

Form Number(s): None.

OMB Approval Number: 0648-0174.

Type of Request: Emergency.

Burden Hours: 314.

Number of Respondents: 13.

Average Hours Per Response: 40 hours for a license application, 10 hours for a license amendment, 2 hours for a notification of a foreign agreement, 1 hour for an executive summary, 2 hours for a notification of the demise of a system or a decision to discontinue system operations, 2 hours for a notification of any operational deviation, 5 hours for a data collection restriction plan, 3 hours for a plan for restricting collection or dissemination of Israeli territory, 3 hours for submission of a data flow diagram, 1 hour for submission of satellite sub-system drawings, 3 hours for submission of final imaging system specifications, 2 hours for a notification of intent to purge data, 2 hours for spacecraft operational information, 2 hours for a notification of disposition of a satellite or orbital debris, 3 hours for a quarterly operational report, 8 hours for a pre-operational compliance audit, and 10 hours for an operational compliance audit.

Needs and Uses: NOAA is issuing regulations that revise the agency's minimal requirements for the licensing, monitoring, and compliance review of private Earth remote-sensing space systems under Title II of the Land Remote-Sensing Policy Act of 1992 (15 U.S.C. 5601 et. seq.). Application information is needed to ensure that the applicant will be in compliance with the Act and with national security and international obligations. Persons receiving a license will be required to make reports (see “Average Hours Per Response” above for a listing of the reports). Affected Public: Business and other for-profit organizations.

Frequency: On occasion, quarterly, annually.

Respondent's Obligation: Mandatory.

OMB Desk Officer: David Rostker, (202) 395-3897.

Copies of the above information collection proposal can be obtained by calling or writing Linda Engelmeier, DOC Forms Clearance Officer, (202) 482-3272, Department of Commerce, Room 6086, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: July 17, 2000.
Madeleine Clayton,
Management Analyst, Office of the Chief Information Officer.

[FR Doc. 00-18563 Filed 7-20-00; 8:45 am]

BILLING CODE 3510-HR-F